DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements (ICRs) for clearance by the Office of Management and Budget (OMB), FRA is soliciting public comment on specific aspects of the activities identified below.

DATES: Comments must be received no later than September 6, 2005.

ADDRESSES: Submit written comments on any or all of the following proposed activities by mail to either: Mr. Robert Brogan, Office of Safety, Planning and Evaluation Division, RRS-21, Federal Railroad Administration, 1120 Vermont Ave., NW., Mail Stop 17, Washington, DC 20590, or Mr. Victor Angelo, Office of Support Systems, RAD-20, Federal Railroad Administration, 1120 Vermont Ave., NW., Mail Stop 35, Washington, DC 20590. Commenters requesting FRA to acknowledge receipt of their respective comments must include a self-addressed stamped postcard stating, “Comments on OMB control number 2130-0544.” Alternatively, comments may be transmitted via facsimile to (202) 493-6230 or (202) 493-6170, or e-mail to Mr. Brogan at robert.brogan@fra.dot.gov, or to Mr. Angelo at victor.angelo@fra.dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1120 Vermont Ave., NW., Mail Stop 17, Washington, DC 20590 (telephone: (202) 493-6292) or Victor Angelo, Office of Support Systems, RAD-20, Federal Railroad Administration, 1120 Vermont Ave., NW., Mail Stop 35, Washington, DC 20590 (telephone: (202) 493-6470). (These telephone numbers are not toll-free.)

SUPPLEMENTARY INFORMATION: The Paperwork Reduction Act of 1995 (PRA), Public Law No. 104-13, section 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) Whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: Passenger Equipment Safety Standards.

OMB Control Number: 2130-0544.

Abstract: The information gained from daily inspections is used to detect and correct equipment problems so as to prevent collisions, derailments, and other occurrences involving railroad passenger equipment that cause injury or death to railroad employees, railroad passengers, or to the general public; and to mitigate the consequences of any such occurrences, to the extent that they can not be prevented. The information provided promotes passenger train safety by ensuring requirements are met for railroad equipment design and performance; fire safety; emergency systems; the inspection, testing, and maintenance of passenger equipment; and other provisions for the safe operation of railroad passenger equipment.

Affected Public: Businesses.

Respondent Universe: 22 railroads.

Frequency of Submission: On occasion; annually.

Reporting Burden
CFR section | Respondent universe | Total annual responses | Average time per response | Total annual burden hours | Total annual burden cost
216.14—Special Notice For Repairs: Passenger Equip. | 22 railroads | 9 forms | 5 minutes | 1 hour | $34
238.7—Waivers | 22 railroads | 9 waivers | 2 hours/25 hours | 64 hours | 2,176
238.15—Movement of Passenger Equip. w/power brake defects: Limitations on movement found during Class I/IA Brake Test | 22 railroads | 1,000 tags/cards | 3 minutes | 50 hours | 2,250
—Limitations on movement of passenger equip. in passenger service that becomes defective en route after Class I/IA brake test | 22 railroads | 288 tags/cards | 3 minutes | 14 hours | 630
—Conditional Requirement: Notifications | 22 railroads | 144 Notifications | 3 minutes | 7 hours | 315
238.17—Movement of Passenger Equip. w/Other than Power Brake Defects: Defects Developed En Route | 22 railroads | 200 tags/cards | 3 minutes | 10 hours | 300
—Special Requisites For Movement of Equipment w/Safety Appliance Defects | 22 railroads | 76 tags/cards | 3 minutes | 4 hours | 120
—Notifications | 22 railroads | 38 notifications | 30 seconds | 19 minutes | 10
238.19—Reporting and Tracking Defective Passenger Equipment: Updated List | 1 railroad | 1 update | 1 hour | 1 hour | 34
238.21—Special Approval Procedure: Petitions For Alternative Std | 22 railroads | 1 petition | 16 hours | 16 hours | 544
—Petitions For Alternative Compl. | 22 railroads | 1 petition | 120 hours | 120 hours | 4,080
238.21—Petitions For Special Approval of Pre-Revenue Service Acceptance Plan | 22 railroads | 2 petitions | 40 hours | 80 hours | 2,720
—Comments | Unknown | 8 comments | 1 hour | 80 hours | 440
238.103—Fire Safety: Equipment Design (New Equip.) | 9 equipment manufacturers | 7.2 equip. designs | 540 hours | 3,888 hours | 198,720
—Subsequent Modifications | 9 equipment manufacturers | 7.2 equip. designs | 60 hours | 432 hours | 43,200
—Existing Equipment: Fire Safety Analysis | 9 equipment manufacturers | 18 analyses | 30 hours | 540 hours | 54,000
—Equipment Transfers: New Analysis | 9 equipment manufacturers | 1 analysis | 20 hours | 20 hours | 2,000
238.107—Inspection, Testing, and Maintenance Plan: Annual Reviews | 22 railroads | 22 reviews | 60 hours | 1,320 hours | 44,880
238.109—Training, Qualification, and Designation Prog.—Training Employees Who Perform Mechanical Insp | 7,500 employees; 100 trainers | 2,500 employees trained/100 instructors | 1.33 hours | 3,458 hours | 103,075
—Recordkeeping | 22 railroads | 2,500 records | 3 minutes | 125 hours | 4,250
238.111—Pre-Revenue Service Acceptance Testing Plan: Equipment Previously Used in Revenue Service | 9 equipment manufacturers | 7.2 plans | 16 hours | 115 hours | 7,705
—Equipment Not Previously Used in Revenue Service | 9 equipment manufacturers | 7.2 plans | 192 hours | 1,382 hours | 138,200
—Subsequent Orders | 9 equipment manufacturers | 7.2 plans | 60 hours | 432 hours | 33,762
238.203—Static End Strength: Grandfathering of Non-Complaint Equipment | 22 railroads | 1 petition | 100 hours | 100 hours | 5,500
—Comments | Unknown | 3 comments | 20 hours | 60 hours | 3,300
238.237—Automated Monitoring | 22 railroads | 22 documents | 2 hours | 44 hours | 1,496
—Display Regarding Defective Alerter/Deadman Control | 22 railroads | 100 tags | 3 minutes | 5 hours | 225
238.303—Exterior Calendar Day Inspection of Equip. | 22 railroads | 25 notices | 1 minute | .50 hour | 23
—Defective Dynamic Brakes on MU Locomotive | 22 railroads | 50 tags/cards | 3 minutes | 3 hours | 135
—Defective Dynamic Brakes on Conventional Locos | 22 railroads | 50 tags/cards | 3 minutes | 3 hours | 135
—Records | 22 railroads | 2,017,756 records | 1 minute | 33,629 hours | 1,143,386
238.305—Interior Calendar Day Mechanical Insp.: Tagging Req | 22 railroads | 540 tags | 1 minute | 9 hours | 324
—Records | 22 railroads | 1,866,904 records | 1 minute | 31,115 hours | 1,057,910
238.307—Periodic Mechanical Inspection of Pass. Cars: Notification of Alternative Intervals | 22 railroads | 5 notifications | 5 hours | 25 hours | 850
—Non-Complying Conditions | 22 railroads | 200 notices | 2 minutes | 7 hours | 238
—Records | 22 railroads | 56,462 records | 2 minutes | 1,882 hours | 63,988
—Reliability Assessments Concerning Alt. Inspection Interval | 22 railroads | 5 documents | 100 hours | 500 hours | 17,000
238.311—Single Car Test: Movement to Nest Forward Location | 22 railroads | 25 tags | 3 minutes | 1 hour | 36
238.315—Class IA Brake Test | 22 railroads | 365,000 communications | 3 seconds | 304 hours | 0
—Communication Signal Tests | 22 railroads | 365,000 tests | 15 seconds | 1,521 hours | 51,714
238.317—Class II Brake Test: Communication Signal System Test | 22 railroads | 365,000 tests | 15 seconds | 1,521 hours | 51,714
238.431—Brake Test: Analysis | 1 railroad | 1 analysis | 40 hours | 40 hours | 1,360
238.437—Emergency Comm. | 3 car manufacturers | 3 sets of instruction + 25 decals | 25 hours/10 min. | 79 hours | 2,670
238.441—Emergency Roof Location | 3 car manufacturers | 3 sets of instruction + 25 placards | 25 hours/60 min. | 100 hours | 3,300
238.445—Automated Monitoring | 1 railroad | 10,000 alerts/alarms | 10 seconds | 28 hours | 0
—Self-Tests: Notific. | 1 railroad | 21,900 notifications | 20 seconds | 122 hours | 0

Total Responses: 5,076,058.

Estimated Total Annual Burden: 83,257 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on June 29, 2005.
D.J. Stadtler,
Director, Office of Budget, Federal Railroad Administration.

[FR Doc. 05-13186 Filed 7-5-05; 8:45 am]

BILLING CODE 4910-06-P